FEDERAL RESERVE SYSTEM

Change in Bank Control Notices; Acquisitions of Shares of a Savings and Loan Holding Company

The notificants listed below have applied under the Change in Bank Control Act (“Act”) (12 U.S.C. 1817(j)) and of the Board's Regulation LL (12 CFR 238.31) to acquire shares of a savings and loan holding company. The factors that are considered in acting on the notices are set forth in paragraph 7 of the Act (12 U.S.C. 1817(j)(7)).

The public portions of the applications listed below, as well as other related filings required by the Board, if any, are available for immediate inspection at the Federal Reserve Bank(s) indicated below and at the offices of the Board of Governors. This information may also be obtained on an expedited basis, upon request, by contacting the appropriate Federal Reserve Bank and from the Board's Freedom of Information Office at https://www.federalreserve.gov/foia/request.htm. Interested persons may express their views in writing on the standards enumerated in paragraph 7 of the Act.

Comments regarding each of these applications must be received at the Reserve Bank indicated or the offices of the Board of Governors, Ann E. Misback, Secretary of the Board, 20th Street and Constitution Avenue NW, Washington DC 20551-0001, not later than February 2, 2024.

A. Federal Reserve Bank of Minneapolis (Stephanie Weber, Assistant Vice President) 90 Hennepin Avenue, Minneapolis, Minnesota 55480-0291. Comments can also be sent electronically to: MA@mpls.frb.org.

1. The Estate of Noman C. Skalicky (Estate), Maple Grove, Minnesota, and the Norman C. Skalicky Revocable Trust Agreement dated December 23, 2019 (Trust), Minneapolis, Minnesota, Joshua C. Hillger, Minneapolis, Minnesota, special administrator to both Estate and Trust; to form the Hillger Control Group, a group acting in concert, to retain voting shares of Stearns Financial Services, Inc., Saint Cloud, Minnesota, and thereby indirectly retain voting shares of Stearns Bank National Association, Saint Cloud, Minnesota; Stearns Bank of Upsala, National Association, Upsala, Minnesota; and Stearns Bank of Holdingford, National Association, Holdingford, Minnesota.

Board of Governors of the Federal Reserve System.
Michele Taylor Fennell,
Deputy Associate Secretary of the Board.

[FR Doc. 2024-00916 Filed 1-17-24; 8:45 am]

BILLING CODE P